DEPARTMENT OF VETERANS AFFAIRS

Joint Biomedical Laboratory Research and Development and Clinical Science Research and Development Services Scientific Merit Review Board; Notice of Meeting

The Department of Veterans Affairs gives notice under the Public Law 92-463 (Federal Advisory Committee Act) that a subcommittee of the Joint Biomedical Laboratory Research and Development and Clinical Science Research and Development Services Scientific Merit Review Board will meet from 8 a.m. to 5 p.m. on August 1, 2006 at the Doubletree Hotel, 1515 Rhode Island Ave., NW., Washington, DC. The subcommittee meeting will focus on evaluating Pharmacogenomics Analysis Laboratory proposals submitted by VA investigators.

The purpose of the Merit Review Board is to provide advice on the scientific quality, budget, safety and mission relevance of center-based research proposals submitted for VA merit review consideration. Proposals submitted for review by the Board involve a range of medical specialties within the general areas of biomedical, behavioral and clinical science research.

The subcommittee meeting will be open to the public for approximately one hour at the start of its meeting to discuss the general status of the program. The remaining portion of the meeting will be closed to the public for the review, discussion, and evaluation of initial and renewal projects.

The closed portion of the meeting involves discussion, examination, and reference to staff and consultant critiques of research protocols. During this portion of the subcommittee meeting, discussion and recommendations will deal with qualifications of personnel conducting the studies, the disclosure of which would constitute a clearly unwarranted invasion of personal privacy, as well as research information, the premature disclosure of which could significantly frustrate implementation of proposed agency action regarding such research projects.

As provided by subsection 10(d) of Public Law 92-463, as amended, closing portions of this meeting is in accordance with 5 U.S.C., 552b(c)(6) and (9)(B). Those who plan to attend or would like to obtain a copy of minutes of the subcommittee meeting and a roster of the members of the subcommittee should contact LeRoy G. Frey, PhD., Chief, Program Review (121F), Department of Veterans Affairs, 810 Vermont Avenue, NW., Washington, DC 20420 at (202) 254-0288.

Dated: June 2, 2006.
By direction of the Secretary.
E. Philip Riggin,
Committee Management Officer.

[FR Doc. 06-5352 Filed 6-13-06; 8:45 am]

BILLING CODE 8320-01-M